INTERNATIONAL TRADE COMMISSION

[Investigation No. 337-TA-1292]

Institution of Investigation; Certain Replacement Automotive Lamps II

AGENCY: U.S. International Trade Commission.

ACTION: Notice.

SUMMARY: Notice is hereby given that a complaint was filed with the U.S. International Trade Commission on December 16, 2021, under section 337 of the Tariff Act of 1930, as amended, on behalf of Hyundai Motor Company of the Republic of Korea and Hyundai Motor America, Inc. of Fountain Valley, California. The Complaint was supplemented by letter on January 6, 2022. The complaint, as supplemented, alleges violations of section 337 based upon the importation into the United States, the sale for importation, and the sale within the United States after importation of certain replacement automotive lamps by reason of infringement of U.S. Design Patent No. D617,478 (“the '478 patent”); U.S. Design Patent No. D618,835 (“the '8835 patent”); U.S. Design Patent No. D618,836 (“the '836 patent”); U.S. Design Patent No. D631,583 (“the '583 patent”); U.S. Design Patent No. D637,319 (“the '319 patent”); U.S. Design Patent No. D640,812 (“the '812 patent”); U.S. Design Patent No. D655,835 (“the '5835 patent”); U.S. Design Patent No. D664,690 (“the '690 patent”); U.S. Design Patent No. D709,217 (“the '217 patent”); U.S. Design Patent No. D736,436 (“the '436 patent”); U.S. Design Patent No. D738,003 (“the '003 patent”); U.S. Design Patent No. D739,057 (“the '057 patent”); U.S. Design Patent No. D739,574 (“the '574 patent”); U.S. Design Patent No. D740,980 (“the '980 patent”); U.S. Design Patent No. D759,864 (“the '864 patent”); U.S. Design Patent No. D759,865 (“the '865 patent”); U.S. Design Patent No. D771,292 (“the '292 patent”); U.S. Design Patent No. D780,351 (“the '351 patent”); U.S. Design Patent No. D818,163 (“the '163 patent”); U.S. Design Patent No. D829,947 (“the '947 patent”) and U.S. Design Patent No. D834,225 (“the '225 patent”). The complaint further alleges that an industry in the United States exists as required by the applicable Federal Statute. The complainants request that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Jessica Mullan, Office of the Secretary, Docket Services Division, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2021).

Scope of Investigation: Having considered the complaint, the U.S. International Trade Commission, on January 18, 2022, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of the claim of the '478 patent; the claim of the '8835 patent; the claim of the '836 patent; the claim of the '583 patent; the claim of the '319 patent; the claim of the '812 patent; the claim of the '5835 patent; the claim of the '690 patent; the claim of the '217 patent; the claim of the '436 patent; the claim of the '003 patent; the claim of the '057 patent; the claim of the '574 patent; the claim of the '980 patent; the claim of the '864 patent; the claim of the '865 patent; the claim of the '292 patent; the claim of the '351 patent; the claim of the '163 patent; the claim of the '947 patent; and the claim of the '225 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “replacement automotive headlamps and taillamps for certain Hyundai-branded automobiles”;

(3) For the purpose of the investigation so instituted, the following are hereby named as parties upon which this notice of investigation shall be served:

(a) The complainants are:

Hyundai Motor Company, 12, Heolleung-ro, Seocho-gu, Seoul 06797, Republic of Korea

Hyundai Motor America, Inc., 10550 Talbert Avenue, Fountain Valley, CA 92708

(b) The respondents are the following entities alleged to be in violation of section 337, and are the parties upon which the complaint is to be served:

TYC Brother Industrial Co., Ltd., No. 72-2, Shin-Leh Road, An-Ping Industrial District, Tainan, Taiwan 70248

Genera Corporation (dba. TYC Genera), 2800 Saturn Street, Brea, CA 92821

LKQ Corporation, 500 West Madison Street, Suite 2800, Chicago, IL 60661

Keystone Automotive Industries, Inc., 44 Tunkhannock Avenue, Exeter, PA 18643

(4) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: January 19, 2022.
Lisa Barton,
Secretary to the Commission.

[FR Doc. 2022-01252 Filed 1-21-22; 8:45 am]

BILLING CODE 7020-02-P